ENVIRONMENTAL PROTECTION AGENCY

40 CFR Part 52

[EPA-R06-OAR-2013-0764; FRL-9913-93-Region 6]

Approval and Promulgation of Air Quality Implementation Plans; New Mexico; Grant County Sulfur Dioxide Limited Maintenance Plan

AGENCY: Environmental Protection Agency (EPA).

ACTION: Proposed rule.

SUMMARY: The Environmental Protection Agency (EPA) is proposing to approve a limited maintenance plan submitted by the State of New Mexico, dated November 1, 2013, for the Grant County maintenance area for the 1971 sulfur dioxide (SO2) National Ambient Air Quality Standard (NAAQS). New Mexico submitted this limited maintenance plan to fulfill the second 10-year maintenance plan requirement, under section 175A(b) of the Clean Air Act (CAA), to ensure maintenance of the 1971 SO2 NAAQS through 2025. The EPA is also proposing to approve a monitoring network modification for the area. The EPA is proposing to approve these revisions pursuant to the CAA.

DATES: Written comments must be received on or before August 18, 2014.

ADDRESSES: Comments may be mailed to Mr. Guy Donaldson, Chief, Air Planning Section (6PD-L), Environmental Protection Agency, 1445 Ross Avenue, Suite 1200, Dallas, Texas 75202-2733. Comments may also be submitted electronically or through hand delivery/courier by following the detailed instructions in the Addresses section of the direct final rule located in the rules section of this Federal Register.

FOR FURTHER INFORMATION CONTACT: Ms. Dayana Medina (6PD-L), Air Planning Section, telephone (214) 665-7241, fax (214) 665-6762, email: medina.dayana@epa.gov.

SUPPLEMENTARY INFORMATION: In the final rules section of this Federal Register, EPA is approving the State's request for a limited maintenance plan submitted on November 1, 2013, for the Grant County maintenance area for the 1971 sulfur dioxide SO2 NAAQS because the Agency views this as a noncontroversial submittal and anticipates no adverse comments. A detailed rationale for the approval is set forth in the direct final rule. If no relevant adverse comments are received in response to this action, no further activity is contemplated. If EPA receives adverse comments, the direct final rule will be withdrawn and all public comments received will be addressed in a subsequent final rule based on this proposed rule. The EPA will not institute a second comment period. Any parties interested in commenting on this action should do so at this time.

For additional information, see the direct final rule, which is located in the rules section of this Federal Register.

Dated: July 7, 2014.
Ron Curry,
Regional Administrator, Region 6.

[FR Doc. 2014-16816 Filed 7-17-14; 8:45 am]

BILLING CODE 6560-50-P